DEPARTMENT OF THE INTERIOR

Fish and Wildlife Service

Information Collection To Be Submitted to the Office of Management and Budget (OMB) for Approval Under the Paperwork Reduction Act (PRA)

AGENCY: Fish and Wildlife Service, Interior.

ACTION: Information collection change approval—Boating Infrastructure Grant Program Survey.

SUMMARY: The U.S. Fish and Wildlife Service (Service) submitted the collection of information requirement described below to the Office of Management and Budget (OMB) for approval under the provisions of the Paperwork Reduction Act (PRA). A copy of this information collection is included in this notice. You may obtain additional copies of the collection requirement, related survey and explanatory material by contacting the Service's Information Collection Clearance Officer at the phone number listed below.

DATES: Consideration will be given to all comments received on or before February 6, 2002. OMB has up to 60 days to approve or disapprove information collections but may respond after 30 days.

ADDRESSES: Interested parties should send comments and suggestions on the requirement to the Office of Information and Regulatory Affairs, Office of Management and Budget, Attn: Interior Desk Officer (1018-0106), New Executive Office Building, 725 17th Street, NW., Washington, DC 20503 and they should send a copy of the comments to: Rebecca A. Mullin, Information Collection Clearance Officer, U.S. Fish and Wildlife Service, 4401 North Fairfax Drive, Suite 222, Arlington, VA 22203, (703) 358-2278 or Rebecca_Mullin@fws.gov E-mail.

FOR FURTHER INFORMATION CONTACT: Michael Vandeford, (703) 358-2033, fax (703) 358-1837, or Michael_Vanderford@fws.gov E-mail.

SUPPLEMENTARY INFORMATION: General: Comments regarding this survey were received as a result of the survey being published in the Federal Register, Volume 65, Number 206, pages 63606-63617, October 24, 2000. We received 54 comments from 3 respondents. Most comments pertained to minor textual changes to improve clarity, while others addressed specific questions, use of survey data, and implementation of the survey. Comments regarding textual changes were used in revising the survey to the extent possible.

Written Comments:

Issue 1: One response suggested that Part A, question 12 and Part B, question 9 fail to address interstate boating facility needs.

Response: The survey instrument is designed to allow States to assess their boating access needs. The U.S. Fish and Wildlife Service will use the results of the State surveys to create a comprehensive national boating access needs assessment to address interstate access needs.

Issue 2: We received one comment suggesting that Part A, question 18 requesting subjective comments pertaining to recreational boating was too broad and should be limited to transient boating facilities. Similar comments were made regarding Part B, question 13; Part C, question 12; and Part D, question 23.

Response: Reducing subjective comments to only those concerning transient facilities is too limiting. However, we do agree that subjective comments must remain focused on facility issues. In response to this comment, we added the word “facilities” after “recreational boating” in the questions.

Issue 3: Two comments identified faulty numbering of questions in the survey instrument.

Response: We revised the numbering of the questions in all Parts of the survey.

Issue 4: One respondent suggested an answer for Part B, question 10 be revised to include portable toilet dump stations instead of waste pumpouts due to the frequent use of portable toilets by operators of boats under 26 feet in length.

Response: We agree in part with this comment and revised the available answer in Part A, question 13 and Part B, question 10 to read as follows, “pumpout/portable toilet dump stations.” Similar changes were also made to Part C and Part D.

Issue 5: A comment regarding Part B, question 11 suggested the answers be revised to include launch lanes and parking areas as these are facilities desired by operators of trailerable boats. A similar comment was made regarding Part C, question 16.

Response: Part B, question 10 specifically addresses the satisfaction levels of boaters regarding launch ramps and parking areas. Part C, question 16 specifically addresses parking areas, restrooms, and launch areas. No changes were made in response to these comments.

Issue 6: Two comments suggested the respondent identifying question in Part C be revised to clearly distinguish between public and private facilities.

Response: We agree and revised the answer set to clearly identify public and private providers.

Issue 7: A comment suggested revising Part C, question 4 to focus on transient slips.

Response: We disagree as the survey was designed to assess the needs for all recreational boating facilities. We did not change Part C, question 4 in response to this comment.

Issue 8: One respondent was unclear about which questions in Part A refer to boats greater than or equal to 26 feet in length. The same comment was made regarding Parts B, C, and D.

Response: We agree and revised instructions in each Part for clarification.

Issue 9: A respondent suggested adding logistical instructions to Part A questions 1-3, Part B questions 1-3, and Part C question 1 informing respondents how to return completed surveys to the appropriate location.

Response: Each State agency administering the survey is responsible for providing logistical instructions to ensure the proper return of completed surveys. However, in response to this comment, we added instructions directing the respondents to return completed surveys.

Issue 10: One respondent suggested altering the available answers in Part A, question 5 and Part B, question 5 to clarify where the vessels are kept during the boating season.

Response: We agree and changed the answer sets in each question to clearly identify that the general location is the desired response.

Issue 11: One comment suggested that the words “transient tie-up facilities” in Part A, question 11 are jargon and require definition.

Response: The meaning of “transient tie-up facilities” is defined in the Boating Infrastructure Grant Program final rule which appeared in the Federal Register on January 18, 2001, Volume 66, Number 12, pages 5282-5294. No change was made in response to this comment.

Issue 12: One comment suggested Part C and Part D would be easier to complete if respondents were able to focus on answering questions pertaining to each facility managed, as opposed to answering questions for all facilities before continuing to the next question.

Response: During the revision of this survey, developers discussed this option. In order to keep the survey as short as possible, the current format was selected with the understanding that States administering the survey have substantial flexibility regarding presentation of the survey to potential respondents. No change was made in response to this comment.

Title: Boating Infrastructure Grant Program Survey.

OMB Control Number: 1018-0106 expires 3/31/2003. The Service may not conduct or sponsor, and a person is not required to respond to a collection of information unless it displays a currently valid OMB control number.

Service Form Number: 3-2187.

Frequency of Collection: One-time.

Description and Use: The Service administers the Boating Infrastructure Grant Program authorized by the Federal Aid in Sport Fish Restoration Act. Under the Act, as amended, the Service is responsible for development of a survey to assess the needs for facilities for recreational boaters. This survey was previously approved under the referenced OMB control number. This request is for approval of changes to the previously approved survey instrument. These changes include dropping certain questions, rewording others for clarity, and reformatting the questionnaire, making it easier to understand and use. These changes reduced the hourly burden on respondents by 20,277 hours. Changes are discussed in detail in this notice under Supplementary Information.

Additional Information: The Service submitted the following information collection requirement to OMB for review and approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Description of Respondents: Boaters and/or boating access providers in the States, the Commonwealth of Puerto Rico, the District of Columbia, the Commonwealth of the Northern Mariana Islands, Guam, the Virgin Islands, and American Samoa.

Completion Time and Response Estimate:

Type of information | Number of interviews* | Average time required per response (minutes) | Annual burden hours
Boat owners: Part A | 11,200 | 12 | 2,240
Boat owners: Part B | 28,000 | 12 | 5,600
Boating access providers: Part C | 8,400 | 20 | 2,800
Boating access providers: Part D | 4,000 | 20 | 1,333
Total |  |  | 11,973
* These numbers are not additive since some of the boaters will fill out both Parts A and B, and most of the providers will fill out both Parts C and D.

The gathering of information from applicants to assess recreational boating facility needs is authorized under the Federal Aid in Sport Fish Restoration Act (16 U.S.C. 777-777k). Information from this survey will be used to assess the needs for recreational boating facilities. Your participation in completing this form is not required to obtain benefits under the Boating Infrastructure Grant Program. Once submitted, this survey becomes public information and is not protected under the Privacy Act. The public reporting burden for this survey is estimated at 10 to 25 minutes per response, including time for gathering information and completing. Direct comments to the Service Information Collection Clearance Officer, (1018-0106), U.S. Fish and Wildlife Service, MS 222-ARLSQ; 1849 C Street N.W., Washington, D.C. 20240.

An agency may not conduct and a person is not required to complete a collection of information unless a currently valid OMB control number is displayed.

Dated: January 2, 2002.
Rebecca Mullin,
Information Collection Clearance Officer.

BOATING INFRASTRUCTURE GRANT PROGRAM NATIONAL FRAMEWORK

PART A: RECREATIONAL BOATING NEEDS ASSESSMENT QUESTIONNAIRE FOR BOATERS WITH BOATS 26 FEET OR MORE IN LENGTH

Please answer the following questions about your boating activities in [name of State]. [Add comment about confidentiality if applicable under state law]

1. Do you own a boat 26 feet or more in length?

□ Yes. □ No. You need not complete this questionnaire. [If this is a mail survey, please stop and return the survey]

2. Have you boated in [name of State] within the past 2 years?

□ Yes. □ No. You need not complete this questionnaire. [If this is a mail survey, please stop and return the survey]

3. Do you boat mainly for recreation (NOT for work)?

□ Yes. □ No. You need not complete this questionnaire. [If this is a mail survey, please stop and return the survey]

4. What type of boat or boats do you own? (Please check all that apply)

□ Cabin cruiser (gasoline) □ Cabin cruiser (diesel) □ Sailboat

Houseboat/pontoon boat □ Open motor boat □ Trawler

□ Other (please specify)__

FOR QUESTIONS 5-9 PLEASE REFER TO THE BOAT OVER 26 FEET IN LENGTH THAT YOU USE THE MOST

5. Where do you usually keep this boat during the boating season? (Please check the one that MOST applies. If you keep your boat in a location other than your home please name the specific site)

□ At waterfront property, which is your permanent residence | StateXXXXXXXXXXXX
□ At waterfront property, which is your seasonal residence | StateXXXXXXXXXXXX
□ On the water at a public or private marina | State/City/town:XXXXXXXXXXXX Site name:XXXXXXXXXXXX
□ At a ‘dry-stack’ marina or other storage facility | State/City/town:XXXXXXXXXXXX Site name:XXXXXXXXXXXX
□ Other (specify)XXXXXXXXXXXX | State/City/town:XXXXXXXXXXXX Site name:XXXXXXXXXXXX

6. How many days a year do you use this boat to go boating in [name of state]? (Please check the one that MOST applies.)

□ 1 to 10 days a year

□ 11 to 20 days a year

□ 21 to 50 days a year

□ More than 50 days a year

7. How long is typical boating trip for you in [name of state]? (Please check the one that MOST applies.)

□ Day trip or weekend

□ Extended trip longer than one weekend

8. Where do you go in this boat? (Please check the one that MOST applies.)

□ One the water body in which it is kept

□ Connected waters up to 25 miles from ‘home port’

□ Connected waters 26 to 50 miles from ‘home port’

□ To destinations over 50 miles

9. What is the average distance that you travel in your boat on a day of boating in [name of state]?

□__________miles.

10. Do you think there are enough transient tie-up facilities in [name of State]? (Please rate on a scale of 1 to 5.)

| No, need a lot more | No, need a few more | The right amount | Yes, more than enough | Yes, there are too many |
| 1 | 2 | 3 | 4 | 5 |

11. Please identify 3 areas in [name of State] where you see the greatest need for more transient tie-up facilities. (Please be as specific as possible and name the country and city or town, and the area name or location.)

Site name | County and city or town | Area name and/or location (such as lake, slough, bay, harbor, section of river or other)
Area #1
Area #2
Area #3

12. Thinking about the boating area(s) you just mentioned in Question #11, what kinds of features do you think are needed at each? (Please check all that apply.)

| Area #1 | Area #2 | Area #3
Transient slips or tie-up facilities | □ | □ | □
Transient moorings | □ | □ | □
Fuel (gasoline) | □ | □ | □
Fuel (diesel) | □ | □ | □
Utilities (electric, water, phone) | □ | □ | □
Restrooms | □ | □ | □
Sewage pumpout/portable toilet dump stations | □ | □ | □
Other (specify)
Other (specify)
Other (specify)

13. Why don't you boat more often in [name of State]? Please rate how the following factors may impact your decision NOT to boat in [name of State] more frequently. (Please check one for each factor listed.)

| No impact | Low impact | Medium impact | High impact | Does not apply
Too few transient slips, moorings, or tie-up facilities | □ | □ | □ | □ | □
Inaccessibility due to shallow water/channel depths | □ | □ | □ | □ | □
Lack of information about transient tie-up facility locations | □ | □ | □ | □ | □
Inadequate facilities (fuel, utilities, restrooms) | □ | □ | □ | □ | □
Congested waterways (boats traffic) | □ | □ | □ | □ | □
Poor water quality for fishing | □ | □ | □ | □ | □
Poor water quality for swimming | □ | □ | □ | □ | □
Other (specify) | □ | □ | □ | □ | □
Other (specify) | □ | □ | □ | □ | □
Other (specify) | □ | □ | □ | □ | □

14. How do you reach the shoreline from your boat? (Please check ALL that apply.)

□ Via shore slip or other transient tie-up facility

□ Via a dinghy from a moored or anchored position

□ Pulling onto shore or close to shore

□ Other ____________

15. If you checked MORE THAN ONE option in Question #14 above, which do you prefer? (Please check the one that you MOST prefer.)

□ Via shore-side slip or other transient tie-up facility

□ Via a dinghy from a moored or anchored position

□ Pulling onto shore or close to shore

□ Other ____________

16. What is the minimum water depth in feet required for safe operation of the boat you use the most?

□ __________ feet.

17. Please use the space below to make any other comments or suggestions about recreational boating facilities in your State.

In accordance with the Paperwork Reduction Act of 1995 (44 U.S.C. 3501) and the Privacy Act of 1974 (U.S.C. 552), please be advised that:

The gathering of information from applicants to assess recreational boating facility needs is authorized under the Federal Aid in Sport Fish Restoration Act (16 U.S.C. 777-777k). Information from this survey will be used to assess the needs for recreational boating facilities. Your participation in completing this form is not required to obtain benefits under the Boating Infrastructure Grant Program. Once submitted, this survey becomes public information and is not protected under the Privacy Act. The public reporting burden for this survey is estimated at 10 to 25 minutes per response, including time for gathering information and completing. Direct comments to the Service Information Collection Clearance Officer, (1018-0106), U.S. Fish and Wildlife Service, MS 222-ARLSQ; 1849 C Street NW., Washington, DC 20240.

An agency may not conduct and a person is not required to complete a collection of information unless a currently valid OMB control number is displayed.

PART B: BOATING NEEDS ASSESSMENT QUESTIONNAIRE FOR BOATERS WITH BOATS UNDER 26 FEET IN LENGTH

Please answer the following questions about your boating activities in [name of State]. [Add comment about confidentiality if applicable under state law]

1. Do you own a boat under 26 feet in length?

□ Yes. □ No. You need not complete this questionnaire. [If this is mail survey, please stop and return the survey]

2. Have you boated in [name of State] within the past 2 years?

□ Yes. □ No. You need not complete this questionnaire. [If this is a mail survey, please stop and return the survey]

3. Do you boat mainly for recreation (NOT for work)?

□ Yes. □ No. You need not complete this questionnaire. [If this is a mail survey, please stop and return the survey]

4. What type of boat or boats do you own? (Please check all that apply.)

□ Cabin cruiser (gasoline)

□ Cabin cruiser (diesel)

□ Houseboat/pontoon boat

□ Sailboat

□ Bass boat/jon boat

□ Open motor boat

□ Personal water craft

□ Jet drive boat

□ Unpowered rowboat

□ Canoe/kayak

□ Sailboard

□ Inflatable boat/raft

□ Other (please specify) __________

FOR QUESTIONS 5-7 PLEASE REFER TO THE BOAT UNDER 26 FEET IN LENGTH THAT YOU USE THE MOST

5. Where do you usually keep this boat during the boating season? (Please check the one that MOST applies. If you keep your boat in a location other than your home, please name the specific site.)

□ Public or private marina

□ At home on a trailer

□ In a rented dry storage area (that is not a marina)

□ Waterfront property that you own, rent, or lease

□ Other ____________

6. How do you put your boat in the water in [name of State]?

□ I use a trailer □ I carry it down to the water

7. How many miles (one way) do you typically transport the boat over land to go boating in [name of State]?

□ __________

8. Please identify 3 [name of State] areas where you see the greatest need for more boat access sites. (Please be as specific as possible and name the county and city or town, and the area name or location).

Area | County and city or town | Area name and/or location (such as lake, slough, bay, harbor, section of river or other)
Area #1
Area #2
Area #3

9. Thinking about the boating area(s) you just mentioned in Question #8, what kinds of support features do you think are needed at each? (Please check all that apply.)

| Area #1 | Area #2 | Area #3
Carry-down walkway to the water's edge | □ | □ | □
Boarding floats | □ | □ | □
Launch ramp | □ | □ | □
Parking | □ | □ | □
Sewage pumpout/portable toilet dump stations | □ | □ | □
Restrooms/showers | □ | □ | □
Other (specify)
Other (specify)
Other (specify)

10. Please rate how the following factors may impact your decision NOT to boat in [name of State] more frequently. (Please check one for each factor listed.)

| No impact | Low impact | Medium impact | High impact | Does not apply
Too few boat access sites | □ | □ | □ | □ | □
Lack of information about access site locations | □ | □ | □ | □ | □
Inadequate facilities (fuel, utilities, restrooms) | □ | □ | □ | □ | □
Congested waterways (boat traffic) | □ | □ | □ | □ | □
Poor water quality for fishing | □ | □ | □ | □ | □
Poor water quality for swimming | □ | □ | □ | □ | □
Other (specify) | □ | □ | □ | □ | □
Other (specify) | □ | □ | □ | □ | □
Other (specify) | □ | □ | □ | □ | □

11. Do you think there are enough boat access sites in [state name]? (Please rate on a scale of 1 to 5.)

| No, need a lot more | No, need a few more | The right amount | Yes, more than enough | Yes, there are too many |
| 1 | 2 | 3 | 4 | 5

12. Please use the space below to make any other comments or suggestions about recreational boating facilities in your State.

In accordance with the Paperwork Reduction Act of 1995 (44 U.S.C. 350 1) and the Privacy Act of 1974 (U.S.C. 552), please be advised that:

The gathering of information from applicants to assess recreational boating facility needs is authorized under the Federal Aid in Sport Fish Restoration Act (16 U.S.C. 777-777k). Information from this survey will be used to assess the needs for recreational boating facilities. Your participation in completing this form is not required to obtain benefits under the Boating Infrastructure Grant Program. Once submitted, this survey becomes public information and is not protected under the privacy Act. The public reporting burden for this survey is estimated at 10 to 25 minutes per response, including time for gathering information and completing. Direct comments to the Service Information Collection Clearance Officer, (1018-0106), U.S. Fish and Wildlife Service, MS 222-ARLSQ; 1849 C Street N.W., Washington, D.C. 20240.

An agency may not conduct and a person is not required to complete a collection of information unless a currently valid OMB control number is displayed.

PART C

If you operate a marina or other tie-up facility in [name of State] that serves boats 26 feet or more in length, please answer the following questions. If you do not operate facilities for boats 26 feet or more in length but do operate an access site that services trailerable or car top boats under 26 feet in length, please go to Part D below.

IF YOU OPERATE MORE THAN 5 FACILITIES PLEASE ESTIMATE RESPONSES FOR ALL YOUR FACILITIES COMBINED. PLACE ANSWERS UNDER FACILITY #1.

RECREATIONAL BOATING NEEDS ASSESSMENT QUESTIONNAIRE FOR PROVIDERS

Please answer the following questions about your boating facility or access site in [name of State]. [Add comment about confidentiality if applicable under state law]

1. Are you a public or private boating facilities provider in [name of State]?

□ Private provider available to the public (Non-government agency)

□ Private provider unavailable to the public (You need not complete this questionnaire. If this is a mail survey, please stop and return the survey)

□ Public provider (Government agency—includes private leases on public land)

□ Neither (You need not complete this questionnaire. If this is a mail survey, please stop and return the survey)

2. How many boating facilities for boats over 26 feet do you operate in [name of State]?

□__________facility(ies)

3. Please list the boating facility or facilities in [name of State] that you operate or manage for boats 26 feet or more in length.

| Name of facility (marina, courtesy dock, etc) | County/city or town | Area (Lake, cove, slough, bay, harbor or section of river) | Latitude (longitude or GPS
Facility #1:
Facility #2:
Facility #3:
Facility #4:
Facility #5:

4. For each facility listed in Question #3, indicate the requirements for boater use. (Check all that apply. List facilities in same order as Question #3.)

| None (first come first served) | Club membership required | Reservations required | Fee charged
Facility #1 | □ | □ | □ | □
Facility #2 | □ | □ | □ | □
Facility #3 | □ | □ | □ | □
Facility #4 | □ | □ | □ | □
Facility #5 | □ | □ | □ | □

5. For each facility listed in Question #3, estimate the number of transient tie-up slips, permanent tie-up slips, transient moorings and permanent moorings. (List facilities in same order as Question #3.)

| Number of transient slips/tie-ups | Number of permanent slips/tie-ups | Number of transient moorings | Number of permanent moorings
Facility #1: |  |  |  |
Facility #2: |  |  |  |
Facility #3: |  |  |  |
Facility #4: |  |  |  |
Facility #5: |  |  |  |

6. For each facility listed in Question #3, identify the types of support features available at the facilities. (Check all that apply. List facilities in same order as Question #3.)

| Gas fuel | Diesel fuel | Restrooms | Sewage pumpout/dump stations | Electricity | Water | Telephones
Facility #1 | □ | □ | □ | □ | □ | □ | □
Facility #2 | □ | □ | □ | □ | □ | □ | □
Facility #3 | □ | □ | □ | □ | □ | □ | □
Facility #4 | □ | □ | □ | □ | □ | □ | □
Facility #5 | □ | □ | □ | □ | □ | □ | □

7. For each facility that you listed in Question #3, what repairs, replacements, expansions, or additions do you think are needed or you would do if you could? (Check all that apply. List facilities in same order as Question #3.)

Facility #1 | None | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Pumpout/dump stations | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

Facility #2 | None | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Pumpout/dump stations | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

Facility #3 | None | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Pumpout/dump stations | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

Facility #4 | None | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Pumpout/dump stations | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

Facility #5 | None | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Pumpout/dump stations | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

8. For all of your facilities combined in [name of State], please identify how boaters know about your facilities. (Check all that apply).

Paid advertising | State publications | Chamber of commerce | World wide web/Internet | Other (specify) | Other (specify)
□ | □ | □ | □

9. Below is a list of reasons why boaters may use the facilities you listed in Question #3. Why do you think the public uses each facility? (Check all that apply for each facility. List facilities in same order as Question #3.

| Close to population centers | Good boating waters | Good support services (slips, fuel, restrooms, pumpouts, etc.) | Reasonable cost | Swimming opportunities | Fishing opportunities | Other (specify)
Facility #1 | □ | □ | □ | □ | □ | □
Facility #2 | □ | □ | □ | □ | □ | □
Facility #3 | □ | □ | □ | □ | □ | □
Facility #4 | □ | □ | □ | □ | □ | □
Facility #5 | □ | □ | □ | □ | □ | □

10. Please rate the overall condition of the facility(ies) you listed in Question $3. (Please check one for each facility. List facilities in same order as Question #3.)

| Poor (requires upgrade now) | Fair (will require upgrade within the next 2 to 5 years) | Good (will require upgrade within 6 to 10 years) | Excellent (no improvements needed for more than 10 years)
Facility #1 | □ | □ | □ | □
Facility #2 | □ | □ | □ | □
Facility #3 | □ | □ | □ | □
Facility #4 | □ | □ | □ | □
Facility #5 | □ | □ | □ | □

11. Do you think there are enough boat tie-up facilities in [name of State]?

□ Yes □ No

12. If public funding sources were available for facility repair, improvement, expansion, or additions, would you be interested?

□ Yes □ No

13. Please provide any comments about recreational boating facilities not covered in this section.

In accordance with the Paperwork Reduction Act of 1995 (44 U.S.C. 3501) and Privacy Act of 1974 (U.S.C. 552), please be advised that:

The gathering of information from applicants to assess recreational boating facility needs is authorized under the Federal Aid in Sport Fish Restoration Act (16 U.S.C. 777-777k). Information from this survey will be used to assess the needs for recreational boating facilities. Your participation in completing this form is not required to obtain benefits under the Boating Infrastructure Grant Program. Once submitted, this survey becomes public information and is not protected under the Privacy Act. The public reporting burden for this survey is estimated at 10 to 25 minutes per response, including time for gathering information and completing. Direct comments to the Service Information Collection Clearance Officer, (1018-0106), U.S. Fish and Wildlife Service, MS 222-ARLSQ; 1849 C Street N.W., Washington, D.C. 20240.

An agency may not conduct and a person is not required to complete a collection of information unless a currently valid OMB control number is displayed.

PART D

If you operate a boating facility or access site for trailerable or car top boats under 26 feet in length, please answer the following questions.

IF YOU OPERATE MORE THAN 5 ACCESS SITES, PLEASE ESTIMATE FOR ALL YOUR FACILITIES COMBINED, PLACE ANSWERS UNDER FACILITY #1

14. How many boating facilities or access sites for boats under 26 feet in length do you operate in [name of State]?

_facilities or access sites

15. Please list the boating facility(ies) or access site(s) that you operate or manage in [name of State] for boats under 26 feet in length. (Please list each specific site.)

| Site name | County/city or town | Area (lake, cove, slough, bay, harbor, or section of river) | Latitute/longitude or GPS
Facility #1:
Facility #2:
Facility #3:
Facility #4:
Facility #5:

16. For each facility listed in Question #15, please indicate any requirements for boater use. (Check all that apply. List access sites in same order as Question #15.)

| None (first come first served) | Club membership required | Reservations required | Fee charged
Facility #1 | □ | □ | □ | □
Facility #2 | □ | □ | □ | □
Facility #3 | □ | □ | □ | □
Facility #4 | □ | □ | □ | □
Facility #5 | □ | □ | □ | □

17. For each facility listed in Question #15, identify the types of support features available at each facility. (Check all that apply. List access sites in same order as Question #15).

| Carry down paths, etc. | Launch ramps | Boarding floats | Sewage pumpout/dump stations | Parking | Restrooms
Facility #1 | □ | □ | □ | □ | □ | □
Facility #2 | □ | □ | □ | □ | □ | □
Facility #3 | □ | □ | □ | □ | □ | □
Facility #4 | □ | □ | □ | □ | □ | □
Facility #5 | □ | □ | □ | □ | □ | □

18. For each facility listed in Question #15, what repairs, replacements, expansions, or additions do you think are needed? (Check one for each feature. List access sites in same order as Question #15.)

Facility #1 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Pumpout/dump stations | □ | □ | □ | □ | □ | □
Other (specify) | □ | □ | □ | □ | □ | □
Other (specify) | □ | □ | □ | □ | □ | □

Facility #2 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Pumpout/dump stations | □ | □ | □ | □ | □ | □
Other (specify) | □ | □ | □ | □ | □ | □
Other (specify) | □ | □ | □ | □ | □ | □

Facility #3 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Pumpout/dump stations | □ | □ | □ | □ | □ | □
Other (specify) | □ | □ | □ | □ | □ | □
Other (specify) | □ | □ | □ | □ | □ | □

Facility #4 | None needed | Repair | Replace | Expand | Add | Does not apply
Carry-down walkway to water's edge | □ | □ | □ | □ | □ | □
Launch ramp | □ | □ | □ | □ | □ | □
Boarding floats | □ | □ | □ | □ | □ | □
Parking | □ | □ | □ | □ | □ | □
Restrooms | □ | □ | □ | □ | □ | □
Pumpout/dump stations | □ | □ | □ | □ | □ | □
Other (specify) | □ | □ | □ | □ | □ | □
Other (specify) | □ | □ | □ | □ | □ | □

Facility #5 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Pumpout/dump stations | □ | □ | □ | □ | □ | □
Other (specify) | □ | □ | □ | □ | □ | □
Other (specify) | □ | □ | □ | □ | □ | □

19. For all of your facilities combined in [name of State], identify how boaters know about your facilities (Check all that apply.)

Paid advertising | State publications | Chamber of Commerce | World wide web | Other (specify) | Other (specify)
□ | □ | □ | □ | □ | □

20. Below is a list of reasons why boaters may use facilities you identified in Question #15. Why do you think the public uses each facility? (Check all that apply. List access sites in same order as Question #15.)

| Close to population centers | Good boating waters | Good support services (slips, fuel, restrooms, pumpouts, etc.) | Reasonable cost | Fishing opportunities | Swimming opportunities | Other (specify)
Facility #1 | □ | □ | □ | □ | □ | □ |
Facility #2 | □ | □ | □ | □ | □ | □ |
Facility #3 | □ | □ | □ | □ | □ | □ |
Facility #4 | □ | □ | □ | □ | □ | □ |
Facility #5 | □ | □ | □ | □ | □ | □ |

21. Please rate the overall condition of the facility(ies) you listed in Question #15. (Check one for each facility. List access sites in same order as Question #15.)

| Poor (requires upgrade now) | Fair (will require upgrade within the next 2 to 5 years) | Good will require upgrade within 6 to 10 years) | Excellent (no improvements needed for more than 10 years)
Facility #1 | □ | □ | □ | □
Facility #2 | □ | □ | □ | □
Facility #3 | □ | □ | □ | □
Facility #4 | □ | □ | □ | □
Facility #5 | □ | □ | □ | □

22. Do you think there are enough boating facilities or access sites in [state name]?

□ Yes □ No

23. If public funding sources were available for access site repair, improvement, expansion, or additions, would you be interested?

□ Yes □ No

24. Please provide any comments about recreational boating facilities or access sites not covered in this section.

Thank you for your help! If you would like a representative of this State to contact you about any questions and concerns or if you would like additional information about facility and site development funding sources, please list your name, facility, telephone number, and best time to contact you.

Name

Facility

Telephone

Time

Paperwork Reduction Act and the Privacy Act—Notices

In accordance with the Paperwork Reduction Act of 1995 (44 U.S.C. 350 1) and the Privacy Act of 1974 (U.S.C. 552), please be advised that:

1. The gathering of information of fish and wildlife is authorized by:

(a) The Sportfishing and Boating Safety Act, Title VII, Subtitle D, Section 7404 (16 U.S.C. 777g-1); and,

(b) Title 50, Part 86, of the Code of Federal Regulations.

2. Information requested in this form is purely voluntary.

3. Routine use disclosures may also be made:

(a) To the U.S. Department of Justice when related to litigation or anticipated litigation;

(b) Of information indicating a violation or potential violation of statute, regulation, rule, order or license to appropriate Federal, State, local, or foreign agencies responsible for investigation or prosecuting the violation or for enforcing or implementing the statute, rule, regulations, order or license:

(c) From the record of an individual in response to an inquiry from a Congressional office made at the request of that individual (42 FR 1903: April 11, 1977).

4. For individuals, personal information such as home address and telephone number, financial data, and personal identifiers (social security number, birth date, etc.) will be removed prior to any release of survey results.

5. The public reporting burden for this information collection varies on the specific activity use being requested. The relevant burden for the survey is 10 to 25 minutes. This burden estimate includes time for reviewing instructions, gathering and maintaining data and completing and reviewing the forms. Direct comments regarding the burden estimate or any other aspect of the forms to the Service Information Clearance Officer, Fish and Wildlife Service, Mail Stop 222, Arlington Square, U.S. Department of the Interior, 1849 C street, NW., Washington, D.C. 20240.

Freedom of Information Act—Notice

For organization, businesses, or individuals operating as a business (i.e., permittees not covered by the Privacy Act), we request that yuo identify any information that should be considered privileged and confidential business information to allow the Service to meet its responsibilities under FOIA. Confidential business information must be clearly marked “Business Confidential” at the top of the letter or page and each succeeding page, and must be accompanied by a non-confidential summary of the confidential information. The non-confidential summary and remaining documents may be made available to the public under FOIA [43 CFR 2.15(d)(1)(i)].

Application Processing Fee

There is no processing fee associated with this survey.

[FR Doc. 02-295 Filed 1-4-02; 8:45 am]

BILLING CODE 4310-55-M